DEPARTMENT OF HEALTH AND HUMAN SERVICES

Food and Drug Administration

[Docket No. FDA-2013-N-0001]

Orthopaedic and Rehabilitation Devices Panel of the Medical Devices Advisory Committee; Cancellation

AGENCY: Food and Drug Administration, HHS.

ACTION: Notice.

SUMMARY: The meeting of the Orthopaedic and Rehabilitation Devices Panel of the Medical Devices Advisory Committee scheduled for July 24 and 25, 2013, is cancelled. This meeting was announced in the Federal Register of April 25, 2013 (78 FR 24426).

FOR FURTHER INFORMATION CONTACT: Sara J. Anderson, Center for Devices and Radiological Health, Food and Drug Administration,10903 New Hampshire Ave., Bldg. 66, rm. 1611, Silver Spring, MD 20993, 301-796-7047, Sara.Anderson@fda.hhs.gov, or FDA Advisory Committee Information Line, 1-800-741-8138 (301-443-0572 in the Washington, DC area), and follow the prompts to the desired center or product area. Please call the Information Line for up-to-date information on this meeting.

Dated: July 5, 2013.
Leslie Kux,
Assistant Commissioner for Policy.

[FR Doc. 2013-16621 Filed 7-10-13; 8:45 am]

BILLING CODE 4160-01-P